DEPARTMENT OF COMMERCE

National Oceanic and Atmospheric Administration

50 CFR Part 660

[Docket No. 260116-0030]

RIN 0648-BO30

Fisheries Off West Coast States; Pacific Coast Groundfish Fishery; Emergency Action to Temporarily Increase 2026 Harvest Specifications and Sector Allocations for Shortspine Thornyhead, Canary Rockfish, and Petrale Sole

AGENCY: National Marine Fisheries Service (NMFS), National Oceanic and Atmospheric Administration (NOAA), Commerce.

ACTION: Temporary rule; emergency action; request for comments.

SUMMARY: This emergency rule temporarily increases 2026 harvest specifications and sector allocations for shortspine thornyhead, canary rockfish, and petrale sole in the Pacific Coast groundfish fishery. This increase in harvest specifications is based on new, recently discovered information from the latest catch-only projections, which show a higher biomass of these species available for harvest than determined by stock assessments used to set the 2025-26 harvest specifications and management measures. This action is necessary to alleviate significant direct economic loss caused by restrictive annual catch limits for these species.

DATES: Effective January 21, 2026 until July 20, 2026. Comments must be submitted by February 23, 2026.

ADDRESSES: A plain language summary of this emergency rule is available at https://www.regulations.gov/docket/NOAA-NMFS-2025-0900. You may submit comments on this document, identified by NOAA-NMFS-2025-0900, by the following method:

• Electronic Submission: Submit all electronic public comments via the Federal e-Rulemaking Portal. Visit https://www.regulations.gov and type NOAA-NMFS-2025-0900 in the Search box. Click on the “Comment” icon, complete the required fields, and enter or attach your comments.

Instructions: Comments sent by any other method, to any other address or individual, or received after the end of the comment period, may not be considered by NMFS. All comments received are a part of the public record and will generally be posted for public viewing on https://www.regulations.gov without change. All personal identifying information (e.g., name, address), confidential business information, or otherwise sensitive information submitted voluntarily by the sender will be publicly accessible. NMFS will accept anonymous comments (enter “N/A” in the required fields if you wish to remain anonymous).

Electronic Access

Electronic copies of the emergency rule may be obtained from https://www.regulations.gov and the NMFS West Coast Region website at https://www.fisheries.noaa.gov/region/west-coast. A Supplemental Environmental Assessment that addresses National Environmental Policy Act (NEPA) requirements may be obtained from the West Coast Groundfish Actions NEPA website at https://www.fisheries.noaa.gov/west-coast/laws-policies/groundfish-actions-nepa-documents. Additional background information is available at the Pacific Fishery Management Council's (Council) website at http://www.pcouncil.org/groundfish/fishery-management-plan/groundfish-amendments-in-development/.

FOR FURTHER INFORMATION CONTACT: Lynn Massey, phone: 562-900-2060, or email: lynn.massey@noaa.gov.

SUPPLEMENTARY INFORMATION: The Pacific Coast groundfish fishery in the U.S. exclusive economic zone (EEZ) seaward of Washington, Oregon, and California is managed under the Pacific Coast Groundfish Fishery Management Plan (FMP). The Council developed the Groundfish FMP pursuant to the Magnuson-Stevens Fishery Conservation and Management Act (Magnuson-Stevens Act) (16 U.S.C. 1801 et seq.). The Secretary of Commerce approved the Groundfish FMP and implemented the provisions of the plan through Federal regulations at 50 CFR part 660, subparts C through G. The Groundfish FMP manages species of roundfish, flatfish, rockfish, sharks, and skates.

Chapter 5 of the Groundfish FMP requires the Council to assess the biological, social, and economic conditions of the Pacific Coast groundfish fishery and use this information to develop recommended harvest specifications and management measures at least biennially. In alignment with the Council's June 2024 recommendations, NMFS set harvest specifications for the 2025-26 fishing years (89 FR 101514; December 16, 2024; effective January 1, 2025). These harvest specifications were informed either by: (1) stock assessments conducted in the summer of 2023, which projected the biomass of each assessed stock starting January 1, 2025, based on catch assumptions provided by the Council's Groundfish Management Team (GMT) for 2023 and 2024; or (2) projections of harvest specifications based on the most recent stock assessment or recommendations by the Council's Scientific and Statistical Committee (SSC).

Informed by their 2023 assessments, the 2025 coastwide annual catch limits (ACL) for shortspine thornyhead, canary rockfish, and petrale sole, decreased 60 percent, 56 percent, and 28 percent, respectively, from the 2024 ACLs. During the development of the recommended 2025-26 harvest specifications and management measures, the Council and its advisory bodies had discussions over and took public comment regarding anticipated fishery constraints from these reduced ACLs (see Groundfish Advisory Subpanel (GAP) and GMT reports from the June 2023 through June 2024 meetings at https://www.pcouncil.org/). However, the type and extent of constraints experienced by the fishery in response to these restrictive 2025 ACLs was beyond those anticipated during the biennial harvest specifications process. During the March 2025 Council meeting, industry representatives from the trawl sector provided in-person public testimony on the constraints that were experienced in early 2025. Additional testimony on the significant constraints experienced by the fishery in response to the 2025 catch limits was presented at the April, June, and September 2025 Council meetings. Industry representatives testified that the 2025 ACLs for the three constraining species are so reduced that affected vessels and fishery participants are either ceasing to fish or minimally fishing to avoid exceeding their quotas for shortspine thornyhead, canary rockfish, and petrale sole. Additionally, 2025 quota pound prices for all three constraining species have increased so significantly from 2024 prices that minimal trading to purchase additional quota is occurring. These challenges are resulting in significant direct economic loss for fishery participants and an overall underattainment of these constraining species and their co-occurring species, both target and non-target. Detailed information on species-specific constraints are documented in GAP Reports submitted at the June 2025 and September 2025 meetings (see Agenda Item E.3.a Supplemental GAP Report 1 June 2025 and Agenda Item G.8.a Supplemental GAP Report 1 September 2025 at https://www.pcouncil.org/).

In June 2024, when making its final recommendations on stocks to be assessed in 2025 (and preliminary recommendations for 2027), the Council recommended catch-only projections for shortspine thornyhead, canary rockfish, and petrale sole (see June 2024 Decision Summary Document at https://www.pcouncil.org/) to provide updated data and information to inform harvest specifications for 2027 and beyond, based on actual catches in 2023 and 2024. NMFS adopted those recommendations. However, in response to the continued public comment from industry on the adverse impacts resulting from the constraints on the fishery created by the low ACLs for shortspine thornyhead, canary rockfish, and petrale sole, a sentiment reinforced by the GAP, in June 2025, the Council requested that NMFS' Northwest Fisheries Science Center conduct new catch-only projections for 2026 and beyond for these species, with the goal of generating new 2026 harvest specifications, if supported by the new science. Additionally, the Council recommended that Council and NMFS staff develop alternative harvest control rules (HCRs) for consideration. The new projections and alternative HCRs were discussed at the September and November 2025 Council meetings, and serve as the basis for this emergency rule.

The 2023 stock assessments used to set the 2025-26 harvest specifications included actual catch information through 2022 and projected catch for 2023 and 2024, whereas the new catch-only projections include actual catch information through 2024 and estimated projections for 2025 and 2026. Actual catch for most Pacific Coast groundfish species is typically less than their corresponding ACLs, meaning that more fish remain in the ocean for spawning and reproduction than projected in an assessment that assumes full harvest of the ACLs for the years immediately preceding a biennial cycle. Accordingly, the new 2025 catch-only projections for shortspine thornyhead (see Agenda Item G.8 Supplemental Attachment 2 September 2025 at https://www.pcouncil.org/), canary rockfish (Agenda Item G.8 Supplemental Attachment 4 September 2025 at https://www.pcouncil.org/), and petrale sole (see Agenda Item G.8 Supplemental Attachment 3 September 2025 at https://www.pcouncil.org/) indicate that there is a higher biomass of all three species available for harvest than was projected in the 2023 stock assessments used to set 2025-26 harvest specifications.

At the September 2025 Council meeting, the Council adopted the 2025 catch-only projections for the three species as the best scientific information available (BSIA) required by the Magnuson-Stevens Act (16 U.S.C. 1851(2)) as the basis for new 2026 harvest limits (see September 2025 Decision Summary at https://www.pcouncil.org) and recommended increasing the 2026 harvest specifications and sector allocations for all three species in accordance with the results of the updated catch-only projections. The Council's recommendation also included alternative HCRs for canary rockfish and shortspine thornyhead, which reduce the buffer that accounts for scientific uncertainty in stock assessments between the overfishing limit (OFL) and the acceptable biological catch (ABC); the details of the revised HCRs are described below under the Emergency Measures section. The Council recommended the new HCRs and ACLs to NMFS, which accepted them and is acting upon them via this emergency rule. Altering the HCRs enables NMFS to set a higher ACL for each species without presenting conservation concerns, as the higher ACLs are informed by new BSIA, which indicates that there is a higher biomass of all three species available for harvest than was projected in the 2023 stock assessments. Additionally, the new ABCs and ACLs that would result from the alternative HCRs are still set below the OFL in the catch-only projections.

Additional information on the economic concerns that inform and justify this emergency action are summarized in the next section.

Justification for Emergency Action

Criteria

Section 305(c) of the Magnuson-Stevens Act authorizes the Secretary of Commerce to implement emergency regulations to address fishery emergencies. NMFS has issued policy guidelines that define criteria for determining whether an emergency exists under section 305(c) of the Magnuson-Stevens Act (62 FR 44421; August 21, 1997). Under NMFS' Policy Guidelines for the Use of Emergency Rules, the phrase “an emergency exists involving any fishery” is defined as a situation that meets the following three criteria:

1. Results from recent, unforeseen events or recently discovered circumstances;

2. Presents serious conservation or management problems in the fishery; and

3. Can be addressed through emergency regulations for which the immediate benefits outweigh the value of advance notice, public comment, and deliberative consideration of the impacts on participants to the same extent as would be expected under the normal rule making process.

NMFS' guidelines further provide that emergency action might be justified to prevent significant direct economic loss or to preserve a significant economic opportunity that otherwise might be foregone. Id.

In addition, the Magnuson-Stevens Act section 305(c)(3) allows for an extension of an emergency rule for an additional 186 days if the public has had the opportunity to comment and, in the case of a Council recommendation for emergency regulations or interim measures, the Council is actively preparing a fishery management plan, plan amendment, or proposed regulations to address the emergency or overfishing on a permanent basis.

Information on the fishery constraints experienced in 2025 and the new BSIA that supports taking emergency action under the criteria described above is summarized below for each species.

Shortspine Thornyhead

Shortspine thornyhead is commonly caught in both the trawl and commercial non-trawl sectors. The coastwide ACL for shortspine thornyhead decreased from 2,030 metric tons (mt) in 2024 to 815 mt in 2025 (i.e., a 60 percent reduction). This decrease led to substantive reductions in annual vessel limits (AVLs) and quota availability for individual fishing quota (IFQ) vessels in the trawl sector and reduced trip limits for the commercial non-trawl sector during the 2025-26 biennium. The ACL reduction for shortspine thornyhead, combined with the increased ACL for sablefish—a species commonly caught alongside thornyheads—led to the new management measure in 2025-26 to eliminate the management line at 34°27′ North latitude (89 FR 101514; December 16, 2024). This action was intended to combine two area-based ACLs and establish a single coastwide ACL for shortspine thornyhead, with the goal of increasing flexibility and providing relief to sectors and areas where projected mortality of shortspine thornyhead was expected to exceed harvest limits. However, IFQ midwater trawl vessels reported in late 2024 that after final action on the 2025-26 harvest specifications and management measures, more shortspine thornyhead had been encountered while fishing for Pacific whiting along the Pacific Northwest coast than in any year over the previous decade. This pattern of encountering shortspine thornyhead in the Pacific whiting fishery continued into early 2025, not only causing midwater trawlers to avoid Pacific whiting early in the fishing season, but also preventing bottom trawlers from fishing for other co-occurring species, (i.e., dover sole, thornyheads, and sablefish (the DTS complex)). In addition, 2025 quota pound prices for shortspine thornyhead have increased from 2024 prices by approximately 233 percent on a commonly used trading platform, which has restricted IFQ vessels' ability to purchase additional quota for targeting shortspine thornyhead or to cover a bycatch event. This restriction has been especially severe for vessels with smaller profit margins as compared to vessels that are part of large corporations or owned by a processor (see Agenda Item E.3.a Supplemental GAP Report 1 June 2025 at http://www.pcouncil.org). These challenges have resulted in vessels making minimal deliveries or voluntarily ceasing to fish, which, if continued, will result in severe economic loss to fishery participants and fishing communities and overall low attainment of shortspine thornyhead and co-occurring species in 2026.

The 2025 catch-only update stock assessment for shortspine thornyhead, combined with the alternative HCR (which phases in changes to the ABC) to reduce the scientific uncertainty buffer between the OFL and ABC, will increase the 2026 ACL from 825 mt to 897 mt (i.e., a 9 percent increase). This ACL increase will allow trawl and commercial non-trawl vessels more flexibility to resume normal fishing operations, with less risk of exceeding a shortspine thornyhead quota, while still protecting the stock from overfishing. See table 1 below for a full list of revised harvest specifications and alternative HCRs.

Canary Rockfish

Canary rockfish is a species commonly caught in all groundfish sectors, both commercial and recreational. The coastwide ACL for canary rockfish decreased from 1,296 mt in 2024, to 571 mt in 2025 (i.e., a 56 percent reduction). This decrease led to reduced bag and sub-bag limits in the recreational fisheries, lower trip limits in the commercial non-trawl fisheries, and reduced quota availability and AVLs for IFQ vessels in the trawl fisheries for the 2025-26 biennium. Canary rockfish are occasionally caught as “lightning strikes” (i.e., large catch events) in the trawl fishery, making it difficult for IFQ vessels to plan how and when to use their quota during the fishing year, especially under low allocations. Typically, when a lightning strike occurs, IFQ vessels trade or buy quota from a different vessel to cover a deficit or increase the amount of quota they own to cover a future potential lightning strike. However, 2025 canary rockfish allocations are so low that minimal canary rockfish quota trading is occurring. Quota owners are keeping their quota in order to protect their ability to fish throughout the year in the event of an unexpected lightning strike. Additionally, quota prices for canary rockfish have increased by approximately 99 percent from 2024 prices on a commonly used trading platform (see Agenda Item E.3.a Supplemental GAP Report 1 at http://www.pcouncil.org), which has restricted IFQ vessels' ability to purchase additional quota to cover a bycatch event, especially vessels with smaller profit margins, as compared to vessels that are part of large corporations or owned by a processor. Vessels may alternatively choose to shift their fishing strategy to avoid canary rockfish; however, concurrent low allocation of shortspine thornyhead has impeded trawl vessels from switching to the DTS complex, which is one of the most common alternative targets for bottom trawl vessels. The low canary rockfish ACL is also affecting midwater Pacific whiting vessels that fish closer to the bottom, where Pacific whiting have commonly schooled in recent years. Although the at-sea Pacific whiting sectors had only recently begun fishing operations in June 2025, due to the low canary rockfish allocations, participating vessels bypassed the only Pacific whiting school encountered off southern Washington because of the potential to also encounter schools of canary rockfish in the area. These challenges have resulted in vessels making minimal deliveries or voluntarily ceasing to fish, which, if continued, will result in severe economic loss to fishery participants and fishing communities and overall low attainment of canary rockfish and co-occurring species in 2026.

The 2025 catch-only update stock assessment for canary rockfish, combined with the alternative HCR to reduce the management uncertainty buffer between the ABC and ACL, will increase the 2026 ACL from 573 mt to 626 mt (i.e., a 9.5 percent increase). This ACL increase will allow recreational and commercial groundfish vessels more flexibility to resume normal fishing operations, with less risk of exceeding a quota at the expense of a lightning strike, while still protecting the stock from overfishing.

Petrale Sole

Petrale sole is a species commonly targeted in the IFQ sector with bottom trawl gear. The petrale sole coastwide ACL decreased from 3,285 mt in 2024, to 2,354 mt in 2025 (i.e., a 28 percent decrease). This reduction led to reduced quota availability for IFQ vessels during the 2025-26 biennium. Typically, bottom trawl vessels could switch to other target species (e.g., rex sole, sanddabs, English sole) to avoid petrale sole, but bottom trawl representatives have reported that opportunities to diversify in 2025 are severely limited due to market constraints. Delivery opportunities have become much more prescriptive, mandating that only specific amounts of specific species be brought in, with price penalties for going over the trip limits set by the processor (see Agenda Item E.3.a Supplemental GAP Report 1 at http://www.pcouncil.org). Additionally, quota prices for petrale sole have increased by approximately 66 percent from 2024 prices on a commonly used trading platform (see Agenda Item E.3.a Supplemental GAP Report 1 at http://www.pcouncil.org). This price increase restricts vessels' ability to buy more quota for additional catch, especially vessels with smaller profit margins, as compared to vessels that are part of large corporations or owned by a processor. These challenges, in combination with the inability to target the DTS complex because of shortspine thornyhead constraints, have resulted in bottom trawl vessels making minimal deliveries or voluntarily ceasing to fish, which, if continued, will result in severe economic loss to fishery participants and fishing communities.

The 2025 catch-only update stock assessment for petrale sole supports increasing the 2026 ACL from 2,238 mt to 2,489 mt (i.e., an 11 percent increase). This increase will allow bottom trawlers more flexibility to target petrale sole, while still protecting the stock from overfishing.

Emergency Measures

In alignment with the Council's September 2025 recommendation, this emergency rule temporarily increases the 2026 OFL, ABC, ACL, harvest guidelines (HG), tribal set-asides, and sector allocations for shortspine thornyhead, canary rockfish, and petrale sole, effective January 21, 2026. These increased harvest specifications include the implementation of alternative HCRs for canary rockfish and shortspine thornyhead. For canary rockfish, this emergency rule eliminates the buffer between the 2026 ABC and ACL that is applied when the stock is in the precautionary zone (i.e., the “40-10” rule ¹) and sets the ABC equal to the ACL. For shortspine thornyhead, this emergency rule implements a phase-in ABC control rule that reduces the buffer between the OFL and ABC. Per the National Standard 1 guidelines (see 50 CFR 600.310(f)(2)(ii)(A)), Councils can develop and recommend to NMFS ABC control rules that allow for changes in catch limits to be phased in over time to help stabilize catch levels as stock assessments are updated.

¹ The 40-10 HCR is applied when a stock's biomass falls below the management target of 40 percent unfished biomass; the further the stock's biomass is below the 40 percent threshold, the greater the reduction in ACL relative to the ABC. When a stock's biomass raises above the management target of 40 percent, the 40-10 rule automatically no longer applies.

Finally, this emergency action would increase the off-the-top deductions from ACLs for Tribal harvest; increase the set-aside for bycatch in the at-sea Pacific whiting sectors, which is deducted from the trawl allocation; and increase the non-trawl allocation for petrale sole. The new harvest specifications, Tribal set-asides, and sector allocations are provided below in table 1. This emergency rule will not change any other aspect of the 2025-26 harvest specifications and management measures.

Table 1—Revised 2026 Harvest Specifications, Tribal Set-Asides, and Allocations in Metric Tons
Species | OFL | ABC | ACL | Tribal | HG | Trawl allocation | At-sea | Shorebased trawl allocation | Non-trawl allocation
Shortspine thornyhead | 970 | 902 | 897 | 54.4 | 820.6 | 582.6 | 76.3 | 506 | 238
Canary rockfish | 673 | 626 | 626 | 54.7 | 558.4 | 403.7 | 21.9 | 382 | 154.7
Petrale sole | 2,676 | 2,489 | 2,489 | 322.5 | 2,138 | 2,104.6 | 76.3 | 2,099 | 33.4

Under these emergency measures, temporarily increasing harvest specifications according to the updated BSIA is expected to alleviate continued significant direct economic harm in 2026. Affected vessels are expected to have increased access to target stocks and their co-occurring species while management measures continue to protect constraining stocks from overfishing. The new, increased harvest specifications and alternative HCRs are not expected to present conservation concerns in the fishery, as they are informed by new BSIA, which indicates that there is a higher biomass of all three species available for harvest than was projected in the 2023 stock assessments used to set 2025-26 harvest specifications and that the SSC has deemed sufficient to support the new catch limits.

Renewal of Emergency Regulations

The Magnuson-Stevens Act limits NMFS' emergency action authority to an initial period of 180 days, with a potential extension up to an additional 186 days, if warranted. The public has an opportunity to comment on the initial emergency action (see ADDRESSES). After considering public comments on this emergency rule, NMFS may take action to extend the emergency measures before expiration.

Classification

The NMFS Assistant Administrator has determined that this emergency rule is consistent with the Groundfish FMP, section 305(c) and other provisions of the Magnuson-Stevens Act, the Administrative Procedure Act (APA), and other applicable law. Pursuant to 5 U.S.C. 553(b)(B), the Assistant Administrator for Fisheries finds prior notice and public comment is not required because it would be impracticable and contrary to the public interest. As described throughout this notice, providing prior notice and opportunity to comment would be impracticable and counter to the public interest because it would delay implementation of emergency measures intended to provide relief for a time-sensitive management problem. Maintaining the currently scheduled 2026 harvest specifications and sector allocations would present immediate and continuous significant economic impacts to fishery participants and fishing communities. Implementing this action as soon as possible will maximize the time available for all affected sectors to adjust business plans for the year and take advantage of the economic relief intended to be provided by the increased harvest specifications. For the reasons outlined above, NMFS finds it impracticable and contrary to the public interest to provide prior notice and public comment on these emergency measures.

Additionally, this rule is exempt from the 30-day delayed effectiveness provision of the APA under 5 U.S.C. 553(d)(3) because it removes a restriction in the form of the pre-existing 2026 shortspine thornyhead, canary rockfish, and petrale sole specifications.

This action is being taken pursuant to the emergency provision of the Magnuson-Stevens Act and is exempt from Office of Management and Budget review.

This emergency rule is exempt from Executive Order 14192 because it is a routine fishing action.

This emergency rule is exempt from the procedures of the Regulatory Flexibility Act because the rule is issued without opportunity for prior notice and opportunity for public comment.

This emergency rule contains no information collection requirements under the Paperwork Reduction Act of 1995.

List of Subjects in 50 CFR Part 660

Fisheries, Fishing, Fishing vessels.

Dated: January 16, 2026.
Samuel D. Rauch, III,
Deputy Assistant Administrator for Regulatory Programs, National Marine Fisheries Service.

For the reasons set out in the preamble, NMFS amends 50 CFR part 660 as follows:

PART 660—FISHERIES OFF WEST COAST STATES

1. The authority citation for part 660 continues to read as follows:

Authority: 16 U.S.C. 1801 et seq., 16 U.S.C. 773 et seq., and 16 U.S.C 7001 et seq.

2. At § 660.50, revise paragraphs (f)(4), (18), and (21) to read as follows:

§ 660.50 Pacific Coast treaty Indian fisheries.

* * * * *

(f) * * *

(4) Canary rockfish. The Tribal harvest guideline is 54.7 mt per year.

* * * * *

(18) Petrale sole. The Tribal harvest guideline is 322.5 mt per year.

* * * * *

(21) Thornyheads. The Tribal harvest guideline for shortspine thornyhead is 54.4 mt per year and the Tribal harvest guideline for longspine thornyhead is 30 mt per year.

* * * * *

3. In tables 2a and 2b to part 660, subpart C, revise the entries for “Canary Rockfish”, “Petrale Sole”, and “Shortspine Thornyhead” to read as follows:

* * * * *

Table 2a to Part 660, Subpart C—2026, and Beyond, Specifications of OFL, ABC, ACL, ACT, and Fishery HG (Weights in Metric Tons). Capitalized Stocks Are Rebuilding
Species/stock | Area | OFL | ABC | ACL ᵃ | Fishery HG ᵇ
* * * * * * *
Canary Rockfish | Coastwide | 673 | 626 | 626 | 558.4
* * * * * * *
Petrale Sole | Coastwide | 2,676 | 2,489 | 2,489 | 2,138
* * * * * * *
Shortspine Thornyhead ᵉ | Coastwide | 970 | 902 | 897 | 820.6
* * * * * * *
ᵃ Annual catch limits (ACLs), annual catch targets (ACTs) and harvest guidelines (HGs) are specified as total catch values.
ᵇ Fishery HGs means the HG or quota after subtracting Pacific Coast treaty Indian Tribes allocations and projected catch, projected research catch, deductions for fishing mortality in non-groundfish fisheries, and deductions for EFPs from the ACL or ACT. These deductions, as well as any HG sharing agreements between states and/or sectors, are published in the SAFE.
* * * * * * *
ᵉ Shortspine thornyhead has a commercial ACT of 55 mt for north of 34°27′ N lat.

* * * * *

Table 2b to Part 660, Subpart C—2026, and Beyond, Allocations by Species or Species Group
Species/stock & complexes | Area | Fishery HG or ACT | Trawl: % | Trawl: mt | Non-Trawl: % | Non-Trawl: mt
* * * * * * *
Canary rockfish | Coastwide | 558.4 | 72.3 | 403.7 | 27.7 | 154.7
* * * * * * *
Petrale sole | Coastwide | 2,138 |  | 2,104.6 |  | 33.4
* * * * * * *
Shortspine thornyhead | Coastwide | 820.6 | 71 | 582.6 | 29 | 238
* * * * * * *

* * * * *

4. In § 660.140, in table 1 to paragraph (d)(1)(ii)(D), revise the entries for “Canary rockfish”, “Petrale sole”, and “Shortspine thornyhead” to read as follows:

§ 660.140 Shorebased IFQ Program.

* * * * *

(d) * * *

(1) * * *

(ii) * * *

(D) * * *

Table 1 to Paragraph (d)(1)(ii)(D)—Shorebased Trawl Allocations for 2025 and 2026
IFQ species | Area | 2025 Shorebased trawl allocation (mt) | 2026 Shorebased trawl allocation (mt)
* * * * * * *
Canary rockfish | Coastwide | 348 | 382
* * * * * * *
Petrale sole | Coastwide | 2,001 | 2,099
* * * * * * *
Shortspine thornyhead | Coastwide | 406 | 506
* * * * * * *

* * * * *

[FR Doc. 2026-01150 Filed 1-21-26; 8:45 am]

BILLING CODE 3510-22-P